DEPARTMENT OF TRANSPORTATION

Surface Transportation Board

[Docket No. FD 35735]

Keenesburg Direct Railroad, LLC—Acquisition and Operation Exemption—J D East, LLC

Keenesburg Direct Railroad, LLC (KDR), a noncarrier, has filed a verified notice of exemption under 49 CFR 1150.31 to acquire from J D East, LLC (JDE), and to operate, approximately 0.16 miles (850 feet) of rail line between the point of connection to the BNSF Railway Company's (BNSF) line at Engineering Switch No. 009951E, approximately 125 feet west of the crossing of BNSF's main line, and Weld County Road 59 and the end of the track, a short distance past Lot 1 of Howser and Timbers Subdivision, in Keenesburg, Weld County, Colo. (the Line). KDR states that there are no mileposts on the Line. KDR also states that there are no interchange commitments between KDR and JDE.

According to KDR, the Line is currently private track. KDR seeks Board authority to acquire the Line from JDE and operate it as a common carrier, providing rail service to the general public.

The earliest the transaction can be consummated is May 16, 2013, the effective date of the exemption (30 days after the exemption was filed).

KDR certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than May 9, 2013 (at least 7 days before the exemption becomes effective).

An original and 10 copies of all pleadings, referring to Docket No. FD 35735, must be filed with the Surface Transportation Board, 395 E Street SW., Washington, DC 20423-0001. In addition, a copy of each pleading must be served on Thomas F. McFarland, Thomas F. McFarland, P.C., 208 South LaSalle Street, Suite 1890, Chicago, IL 60604-1112.

Board decisions and notices are available on our Web site at www.stb.dot.gov.

Decided: April 29, 2013.
By the Board, Rachel D. Campbell, Director, Office of Proceedings.
Jeffrey Herzig,
Clearance Clerk.

[FR Doc. 2013-10459 Filed 5-1-13; 8:45 am]

BILLING CODE 4915-01-P